DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Southwest Region Permit Family of Forms.

Form Number(s): None.

OMB Approval Number: 0648-0204.

Type of Request: Regular submission.

Burden Hours: 143.

Number of Respondents: 1,270.

Average Hours per Response: Highly Migratory Species new permits, 1 hour; renewals, 6 minutes; Coastal Pelagic Fishery permit renewals, 15 minutes; transfers, 30 minutes; appeals, 2 hours; experimental permits, 1 hour.

Needs and Uses: Permits are required for persons to participate in Federally-managed fisheries off the West Coast. The permit application forms provide basic information about permit holders and the vessels and gear being used. This information is important for understanding the nature of the fisheries and provides a link to participants. It also aids enforcement of regulations.

Affected Public: Business or other for-profit organizations; individuals or households.

Frequency: Annually, biennially and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: November 2, 2006.
Gwellnar Banks,
Management Analyst, Office of the Chief Information Officer.

[FR Doc. E6-18902 Filed 11-7-06; 8:45 am]

BILLING CODE 3510-22-P